DEPARTMENT OF HEALTH AND HUMAN SERVICES

Agency for Healthcare Research and Quality

Agency Information Collection Activities: Proposed Collection; Comment Request

AGENCY: Agency for Healthcare Research and Quality, HHS.

ACTION: Notice

SUMMARY: This notice announces the intention of the Agency for Healthcare Research and Quality (AHRQ) to request that the Office of Management and Budget (OMB) approve the proposed information collection project “AHRQ's National Nursing Home COVID-19 Coordinating Center.” This proposed information collection was previously published in the Federal Register on December 8th, 2021 and allowed 60 days for public comment. AHRQ did not receive comments from members of the public. The purpose of this notice is to allow an additional 30 days for public comment.

DATES: Comments on this notice must be received by March 30, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Doris Lefkowitz, AHRQ Reports Clearance Officer, (301) 427-1477, or by email at doris.lefkowitz@AHRQ.hhs.gov.

SUPPLEMENTARY INFORMATION:

Proposed Project

AHRQ's National Nursing Home COVID-19 Coordinating Center

As of February 3, 2022, nursing homes have reported 902,964 confirmed cases of severe acute respiratory syndrome coronavirus 2 (SARS-CoV-2) infection and coronavirus disease since 2019 (COVID-19), resulting in over 147,000 COVID-19-related deaths The U.S. Department of Health and Human Services (HHS) has distributed funds to nursing homes and launched several initiatives to improve nursing home safety and infection control. AHRQ's National Nursing Home COVID-19 Action Network (https://www.ahrq.gov/nursing-home/about/index.html) (the Network) is a cornerstone of HHS's response, intended to provide training and assistance to nursing homes on best practices to minimize transmission of SARS-CoV-2. The Network expands AHRQ's programmatic efforts to address quality and safety in long-term care, and aligns with other agency efforts to provide COVID-19 guidance to nursing homes. As the pandemic continues, nursing homes require easy access and implementation support for up-to-date best practices on SARS-CoV-2 infection control, COVID-19 care and management, and safety measures to protect residents and staff.

AHRQ's National Nursing Home COVID-19 Coordinating Center plays a complementary role to the Network, serving as a bridge between AHRQ's Network initiatives and the nursing home quality improvement (QI) community. The Coordinating Center is tasked with (1) coordinating engagement with scientific and policy stakeholders to identify safety needs and best practices, (2) ensuring coordinated development and dissemination of QI tools and other resources, and (3) assessing the effectiveness of the Network in providing training and mentorship to support nursing homes in responding to the COVID-19 pandemic.

As part of the Coordinating Center activities, AHRQ seeks to conduct an assessment of whether and how the Network activities aided the nursing homes' efforts to mitigate the challenges posed by the COVID-19 pandemic. The goals of the performance assessment are to:

1. Assess the reach, retention, and engagement of the Network;

2. study the implementation approach, gaps and barriers;

3. study the long-term impact, sustainability, and replicability of the training program and Network activities.

This study is being conducted by AHRQ through its Coordinating Center contractor, NORC at the University of Chicago (NORC), pursuant to AHRQ's statutory authority to conduct and support training and technical assistance on health care and on systems for the delivery of such care. 42 U.S.C. 299a.

Method of Collection

To further achieve the goals of this performance assessment, AHRQ is requesting OMB approval for new data collection. More specifically, the new data collection activities intend to collect systematic information from nursing homes on the following:

• Motivations for participation and non-participation in the Network

• Context of participation (including state and local context, and participation in other COVID-19 related-initiatives)

• Perceptions on recruitment, engagement, and retention, including facilitators and barriers of engagement and retention

• Perceptions on the Network training and mentorship resources, including access to and utility of the Network training and resources

• Gaps in knowledge, skills, and resources required for identifying residents and staff infected with COVID-19

• Impacts on the prevention and spread of SARS-CoV-2, implementation of best practice safety measures; improvement of quality of care for residents with mild and asymptomatic cases; and reduction of social isolation for residents, families, and staff

The primary data collection includes the following activities:

• Survey of all participating nursing homes (approximately 8,308) and a 50% representative sample of nonparticipating nursing homes (approximately 2,782) eligible for the Provider Relief Fund. Separate survey instruments will be used for network participants (“Participant Survey”) and non-participants (“Non-Participant Survey”). The Participant Survey will be conducted primarily via a secure web-based platform. The Non-Participant Survey will be conducted via web and telephone.

• Key informant interviews with up to 96 individuals from 32 nursing homes participating in the Network across all assessment domains, conducted virtually on a secure platform.

Information collected will inform whether and how the Network activities aided the nursing homes' efforts to mitigate the challenges posed by the COVID-19 pandemic. This data collection effort will also provide information on why nursing homes may not have been able to participate in the Network (Non-Participant Survey). Findings from the assessment will allow AHRQ to:

• Assess the Network's reach and the effectiveness of the retention and engagement strategies;

• Study implementation of the Network's training sessions, mentorship and technical assistance activities, and dissemination of the safety and quality improvement tools;

• Study the Network's impact on ensuring availability of protective equipment, rapid identification of nursing home residents and staff infected with SARS-CoV-2, entry and transmission of COVID-19, and improving health outcomes; and

• Study the long-term impact, sustainability, and replicability of the training program and Network activities to address other patient safety and quality improvement priorities.

Estimated Annual Respondent Burden

Survey. The nursing home survey will have two survey instruments:

—Participant Survey for nursing home facilities that participated in the Network

—Non-Participant Survey for nursing homes that did not participate in the Network

For the Participant Survey we expect that 1,662 participants (20% response rate) will agree to participate on behalf of their facilities and that the survey will take about 20 minutes to complete. For the Non-Participant Survey, we expect that 556 participants will agree to participate (20% response rate) on behalf of their facilities and that the survey will take about 5 minutes to complete. This estimate is based on prior provider survey experience and the response rate for the Customer Satisfaction survey which was approximately 20%.

Key Informant Interviews. Key informant interviews will be conducted with up to 32 nursing homes (up to 3 staff from each nursing home in each interview, for a total of 96 staff) involved in the Network. All interviews are expected to last 60 minutes, including time for respondents to provide verbal consent for participation and ask any questions at the start.

The total annual burden hours for the survey and key informant interviews are estimated to be 688 hours, as shown in Exhibit 1.

Exhibit 1—Estimated Annualized Burden Hours
Form name | Number of respondents | Hours per response | Total burden hours
Survey instrument—participant | 1,662 | .33 | 548
Survey instrument—nonparticipant | 556 | .08 | 44
Nursing Home Key Informant Interview | 96 | 1 | 96
Total | 2,314 |  | 688

Exhibit 2 shows the estimated annual cost burden associated with the respondents' time to participate in this information collection, which comes to $41,837.28

Exhibit 2—Estimated Annualized Cost Burden
Form name | Number of respondents | Total burden hours | Average hourly wage rate ** | Total cost burden
Survey instrument—participant | 1,662 | 548 | ¹ $60.81 | $33,323.88
Survey instrument—nonparticipant | 556 | 44 | ¹ 60.81 | 2,675.64
Nursing Home Key Informant Interview (Management) | 96 | 96 | ¹ 60.81 | 5,837.76
Total | 2,314 | 688 |  | 41,837.28
** Wage rates were calculated using the mean hourly wage from the U.S. Department of Labor, Bureau of Labor Statistics, May 2020 National Occupational Employment and Wage Estimates for the United States, https://www.bls.gov/oes/current/oes_nat.htm.
¹ Average rate for Nursing Care Facilities: Management Occupations.

Request for Comments

In accordance with the Paperwork Reduction Act, 44 U.S.C. 3501-3520, comments on AHRQ's information collection are requested with regard to any of the following: (a) Whether the proposed collection of information is necessary for the proper performance of AHRQ's health care research and health care information dissemination functions, including whether the information will have practical utility; (b) the accuracy of AHRQ's estimate of burden (including hours and costs) of the proposed collection(s) of information; (c) ways to enhance the quality, utility and clarity of the information to be collected; and (d) ways to minimize the burden of the collection of information upon the respondents, including the use of automated collection techniques or other forms of information technology.

Comments submitted in response to this notice will be summarized and included in the Agency's subsequent request for OMB approval of the proposed information collection. All comments will become a matter of public record.

Dated: February 22, 2022.
Marquita Cullom,
Associate Director.

[FR Doc. 2022-04102 Filed 2-25-22; 8:45 am]

BILLING CODE 4160-90-P